DEPARTMENT OF AGRICULTURE

Food and Nutrition Service

Agency Information Collection Activities: Assessment of Mobile Technologies for Using Supplemental Nutrition Assistance Program (SNAP) Benefits

AGENCY: Food and Nutrition Service (FNS), USDA.

ACTION: Notice.

SUMMARY: In accordance with the Paperwork Reduction Act of 1995, this notice invites the general public and other public agencies to comment on this proposed information collection. This is a new collection for the contract Assessment of Mobile Technologies for Using Supplemental Nutrition Assistance Program (SNAP) Benefits (Mobile Payment Pilot evaluation). The purpose of the Mobile Payment Pilot evaluation is to assess the effects of five pilot projects that will allow SNAP participants to use mobile payments to purchase food as an alternate option to a physical electronic benefit transfer (EBT) card.

DATES: Written comments must be received on or before July 31, 2023.

ADDRESSES: Comments may be sent to: Maya Sandalow, Food and Nutrition Service, U.S. Department of Agriculture, 1320 Braddock Place, 5th floor, Alexandria, VA 22314. Comments may also be submitted via email to maya.sandalow@usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Maya Sandalow at (703) 305-1615.

SUPPLEMENTARY INFORMATION:

Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Assessment of Mobile Technologies for Using SNAP Benefits (Mobile Payment Pilot).

Form Number: N/A.

OMB Number: Not Yet Assigned.

Expiration Date: Not Yet Determined.

Type of Request: New Collection.

Abstract: The Supplemental Nutrition Assistance Program (SNAP) provides monthly benefits to low-income households to reduce food insecurity and improve health and well-being. Benefits are delivered via electronic benefit transfer (EBT), which is accepted at more than 250,000 authorized retailers nationwide. For nearly two decades, SNAP participants have used EBT in person at retailers, where they swipe their card at checkout using a point of sale (POS) terminal and enter their personal identification number (PIN) to pay for their purchases.

The Agricultural Act of 2018 (2018 Farm Bill) authorized the use of mobile payments from devices like cell phones, tablets, and smart watches, as an alternate option to a physical electronic benefit transfer (EBT) card to conduct a SNAP transaction. This authorization was subject to the result of five mobile payment pilot projects. Mobile payments may improve the customer experience; save participant and retailer time; reduce potential stigma of using EBT; reduce costs; and prevent benefit fraud, loss, or theft.

The U.S. Department of Agriculture, Food and Nutrition Service (FNS) selected five State SNAP agencies to participate in the Mobile Payment Pilot: Illinois, Louisiana, Massachusetts, Missouri, and Oklahoma. These State pilots include a variety of design implementation strategies in terms of payment model, retail partnerships, marketing plans, and pilot scale. The Mobile Payment Pilot Evaluation will assess the effects of the pilots, using information obtained from FNS, selected State SNAP agencies, retailers, and SNAP participants. The evaluation has four objectives: (1) assessing the implementation of the pilots, (2) examining the adoption and use of mobile technologies, (3) understanding implications for program integrity, and (4) assessing replicability and costs. In each of the five sites, the evaluation will conduct three rounds of semi-structured interviews with State SNAP agencies, EBT processors, retailers, and other partners. Interviews will occur during the pilot planning period and once the pilots are implemented, and will collect information about the pilot design and implementation.

In each of the five sites, the evaluation will also conduct two, 5-minute surveys and four focus groups among SNAP participants. One survey will be conducted among 250 participants who used mobile payments and the other will be conducted among 250 participants who did not use mobile payments. Similarly, two focus groups will be conducted with participants who used the technology and two others will be conducted with participants who did not use it.

In addition, the evaluation will collect SNAP administrative data, cost data, and retailer transaction data from the FNS ALERT and STARS systems. These data will be used to describe the adoption of mobile payment technologies and benefit redemption patterns by participant, retailer, and community characteristics.

Data collected from staff at State SNAP agencies, partners (such as EBT processors, mobile application vendors, and payment providers), and retailers will be used to describe how the pilots were planned and implemented. Data collected from SNAP participants will provide more information about their decisions to use or not use mobile payments, barriers to use, and participant satisfaction and user experience. Administrative, cost, and transaction data will provide insights on adoption and use of mobile payments. Ultimately, the findings will guide FNS in determining if expanding availability of mobile payments nationwide is cost-effective, secure, and accessible to participants.

Affected Public: Respondent groups identified include: SNAP participants in the pilot areas; members of State SNAP agencies; retailers in the pilot areas; and mobile payment processers and other vendors.

Estimated Number of Respondents: The total estimated number of respondents is 21,246. The number of respondents includes: 20,330 SNAP participants (13% of whom will complete surveys or focus groups); 103 State SNAP agency and other State agency staff; 210 staff from businesses supporting the Mobile Payment Pilots (such as mobile payment processors, mobile application providers, EBT hotlines, EBT processors, and/or token services providers); and 603 retailer staff offering mobile payments, including managers and other staff. The total estimated number of non-respondents is 11,190 and includes 10,934 SNAP participants (who will be contacted to complete surveys or focus groups), 252 staff from businesses, and 4 State SNAP agency or other State agency staff.

The evaluation team will pretest the survey and semi-structured interviews. The team will conduct pretest interviews with nine SNAP participants for the two survey instruments, three State SNAP agency staff members for the key informant interview guide, and three retailer staff members for the retailer interview guide.

Estimated Number of Responses per Respondent: Across all respondents, the average number of responses is 7.91. Respondent groups include:

(1) SNAP participants who did and did not use mobile payments,

(2) State SNAP agency, other State agency, and business staff (including vendors who provide mobile application development, electronic benefit transfer processing, payment providers, and other services in support of mobile payments),

(3) Retailer staff overseeing the provision of mobile payments for the pilot projects at a corporate level, or staff working in a retailer location offering mobile payments.

SNAP participants in the pilot areas will be asked to participate in one survey or focus group (including participants who did or did not use mobile payments). SNAP participants will receive an advance letter to notify them about the survey, emails or text messages to assess their interest in participating in the survey, and a reminder letter to encourage them to complete the survey. Participants who choose to complete the survey will complete a five minute web or phone survey. SNAP participants in the pilot areas may also receive emails or text messages to ask if they would be interested in participating in a focus group. If they choose to participate in a focus group, the participant would receive a text message or phone call with several questions to ensure they are eligible to participate, followed by reminder emails or text messages to encourage them to attend the in-person focus group.

State SNAP agency, other State agency, and business staff will respond to up to three in-person or telephone interviews. Staff from these entities will receive an email to invite them to participate in an interview, before participating in an interview lasting up to 60 minutes. Selected State SNAP agency staff will provide administrative data one time and cost data on a quarterly basis 10 times.

Retailer staff will respond to up to two in-person interviews. Retailer staff will receive a screening telephone call to invite the retail store to participate in interviews with staff. The screener will include several questions to help the evaluation team tailor interview protocols for the store in advance. Following the screener, the retail store manager or other applicable staff will receive an email to invite them to participate in an interview. Each interview with a retail staff member will last between 15 and 30 minutes.

Estimated Total Annual Responses: 254,963 (168,077 respondents and 86,886 nonrespondents).

Estimated Time per Response: The estimated time of response varies from a few minutes to over an hour, depending on the respondent group, but averages 0.027 hours (or about 2 minutes) for all respondents as shown in the table below. State SNAP agency providing administrative and cost data will spend up to 8 hours per response.

Estimated Total Annual Burden on Respondents: 415,467 minutes (6,924 hours). See the table below for estimated total annual burden for each type of respondent.

Tameka Owens,
Assistant Administrator, Food and Nutrition Service.

Type of respondents | Instruments | Sample size | Responsive: Number of respondents | Responsive: Frequency of response | Responsive: Total annual responses | Responsive: Hours per response | Responsive: Annual burden (hours) | Non-responsive: Number of non- respondents | Non-responsive: Frequency of response | Non-responsive: Total annual responses | Non-responsive: Hours per response | Non-responsive: Annual burden (hours) | Grand total annual burden estimate (hours) | Hourly wage rate | Total annualized cost of respondent burden
Individuals/Household
SNAP Participants | Pretest: Client Experience Survey | 12 | 9 | 1 | 9 | 0.5000 | 4.5 | 3 | 1 | 3 | 0.0167 | 0.1 | 4.6 | $7.25 | $42.88
SNAP Participants | Pretest: Survey of Non-Adopters | 12 | 9 | 1 | 9 | 0.5000 | 4.5 | 3 | 1 | 3 | 0.0167 | 0.1 | 4.6 | 7.25 | 42.88
SNAP Participants | Client Experience Survey: Advance Letter | 12,500 | 10,000 | 1 | 10,000 | 0.0501 | 501.0 | 2,500 | 1 | 2,500 | 0.0501 | 125.3 | 626.3 | 7.25 | 5,902.41
SNAP Participants | Client Experience Survey: Email/Text | 10,000 | 8,000 | 8 | 64,000 | 0.0167 | 1,068.8 | 2,000 | 8 | 16,000 | 0.0167 | 267.2 | 1,336.0 | 7.25 | 12,591.80
SNAP Participants | Client Experience Survey: Reminder Letter | 8,125 | 6,500 | 1 | 6,500 | 0.0501 | 325.7 | 1,625 | 1 | 1,625 | 0.0501 | 81.4 | 407.1 | 7.25 | 3,836.56
SNAP Participants | Client Experience Survey | 12,500 | 1,250 | 1 | 1,250 | 0.0835 | 104.4 | 11,250 | 1 | 11,250 | 0.0167 | 187.9 | 292.3 | 7.25 | 2,754.46
SNAP Participants | Survey of Non-Adopters: Advance Letter | 12,500 | 10,000 | 1 | 10,000 | 0.0501 | 501.0 | 2,500 | 1 | 2,500 | 0.0501 | 125.3 | 626.3 | 7.25 | 5,902.41
SNAP Participants | Survey of Non-Adopters: Email/Text | 10,000 | 8,000 | 8 | 64,000 | 0.0167 | 1,068.8 | 2,000 | 8 | 16,000 | 0.0167 | 267.2 | 1,336.0 | 7.25 | 12,591.80
SNAP Participants | Survey of Non-Adopters: Reminder Letter | 8,125 | 6,500 | 1 | 6,500 | 0.0501 | 325.7 | 1,625 | 1 | 1,625 | 0.0501 | 81.4 | 407.1 | 7.25 | 3,836.56
SNAP Participants | Survey of Non-Adopters | 12,500 | 1,250 | 1 | 1,250 | 0.0900 | 112.5 | 11,250 | 1 | 11,250 | 0.0167 | 187.9 | 300.4 | 7.25 | 2,831.03
SNAP Participants | Focus Group: Recruitment Email/Text | 6,240 | 312 | 4 | 1,248 | 0.0167 | 20.8 | 5,928 | 4 | 23,712 | 0.0167 | 396.0 | 416.8 | 7.25 | 3,928.64
SNAP Participants | Focus Group: Screener | 312 | 250 | 1 | 250 | 0.0501 | 12.5 | 62 | 1 | 62 | 0.0167 | 1.0 | 13.6 | 7.25 | 127.81
SNAP Participants | Focus Group: Reminder emails/texts | 250 | 200 | 2 | 400 | 0.0167 | 6.7 | 50 | 2 | 100 | 0.0167 | 1.7 | 8.4 | 7.25 | 78.70
SNAP Participants | Focus Group Discussion Guide | 200 | 200 | 1 | 200 | 1.50 | 300.0 | 0 | 1 | 0 | 0.00 | 0.0 | 300.0 | 7.25 | 2,827.50
|  | 31,264 | 20,330 | 8.15 | 165,616 | 0.026 | 4,357 | 10,934 | 7.92 | 86,630 | 0.020 | 1,722 | 6,079 |  | 57,295.45
Business (Profit, Non-Profit, or Farm)
Retail Business Staff | Pretest: Semi-structured interview guide | 3 | 3 | 1 | 3 | 1.00 | 3.0 | 0 | 1 | 0 | 0.0167 | 0.0 | 3.0 | 59.31 | 231.31
Vendor Staff | Business: Semi-structured interview invitation email | 262 | 210 | 1 | 210 | 0.0167 | 3.5 | 52 | 1 | 52 | 0.0167 | 0.9 | 4.4 | 59.31 | 337.36
Vendor Staff | Business: Semi-structured interview guide | 210 | 210 | 1 | 210 | 1.00 | 210.0 | 0 | 1 | 0 | 0.00 | 0.0 | 210.0 | 59.31 | 16,191.63
Retail Business Staff | Retailer: Interview Screener | 800 | 600 | 1 | 600 | 0.0501 | 7.5 | 50 | 1 | 50 | 0.0167 | 0.8 | 8.4 | 22.15 | 961.75
Retail Business Staff | Retailer: Semi-structured interview invitation email | 600 | 600 | 1 | 600 | 0.0167 | 2.5 | 0 | 1 | 0 | 0.00 | 0.0 | 2.5 | 22.15 | 288.53
Retail Business Staff | Retailer: Semi-structured interview guide | 600 | 600 | 1 | 600 | 0.50 | 225.0 | 0 | 1 | 0 | 0.00 | 0.0 | 225.0 | 22.15 | 8,638.50
|  | 1,065 | 813 | 2.73 | 2,223 | 0.250 | 557 | 252 | 1.00 | 252 | 0.017 | 4.208 | 561 |  | 26,649.07
State Government
State Program Staff | Pretest: Semi-structured interview guide | 3 | 3 | 1 | 3 | 1.00 | 1.0 | 0 | 1 | 0 | 0.0167 | 0.0 | 1.0 | 59.31 | 231.31
State Program Staff | State agency: Semi-structured interview invitation email | 94 | 90 | 1 | 90 | 0.0167 | 2 | 4 | 1 | 4 | 0.0167 | 0.07 | 1.57 | 59.31 | 121.04
State Program Staff | State agency: Semi-structured interview guide | 90 | 90 | 1 | 90 | 1.00 | 90 | 0 | 1 | 0 | 0.00 | 0.0 | 90.00 | 59.31 | 6,939.27
State Program Staff | Provide Administrative Data | 5 | 5 | 1 | 5 | 8.00 | 40 | 0 | 1 | 0 | 0.00 | 0.0 | 40.00 | 59.31 | 3,084.12
State Program Staff | Provide Cost Data | 5 | 5 | 10 | 50 | 3.00 | 150 | 0 | 1 | 0 | 0.00 | 0.0 | 150.00 | 59.31 | 11,565.45
|  | 107 | 103 | 2.31 | 238 | 1.195 | 285 | 4 | 1.000 | 4 | 0.017 | 0.1 | 284.57 |  | 21,941.19
Total |  | 32,436 | 21,246 | 7.911 | 168,077 | 0.031 | 5,198 | 11,190 | 8 | 86,886 | 0.020 | 1,727 | 6,924 |  | 105,885.71

[FR Doc. 2023-11386 Filed 5-26-23; 8:45 am]

BILLING CODE 3410-30-P